DEPARTMENT OF THE INTERIOR

National Park Service

[NPS-WASO-NAGPRA-15212; PPWOCRADN0-PCU00RP14.R50000]

Notice of Inventory Completion: U.S. Department of Defense, Department of the Navy, Washington, DC

AGENCY: National Park Service, Interior.

ACTION: Notice.

SUMMARY: The U.S. Department of Defense, Department of the Navy (DoN) has completed an inventory of human remains and associated funerary objects, in consultation with the appropriate Indian tribes, and has determined that there is a cultural affiliation between the human remains and associated funerary objects and the Native Village of Barrow Inupiat Traditional Government. Representatives of any Indian tribe not identified in this notice that wish to request transfer of control of these human remains and associated funerary objects should submit a written request to the DoN. If no additional requestors come forward, transfer of control of the human remains and associated funerary objects to the Indian tribe stated in this notice may proceed.

DATES: Representatives of any Indian tribe not identified in this notice that wish to request transfer of control of these human remains and associated funerary objects should submit a written request with information in support of the request to the DoN at the address in this notice by April 30, 2014.

ADDRESSES: Dave M. Grant, Department of the Navy, NAVFAC NW., 1101 Tautog Circle, Suite 102, Silverdale, WA 98315-1101, telephone (360) 396-0919, email dave.m.grant@navy.mil.

SUPPLEMENTARY INFORMATION: Notice is here given in accordance with the Native American Graves Protection and Repatriation Act (NAGPRA), 25 U.S.C. 3003, of the completion of an inventory of human remains and associated funerary objects under the control of the U.S. Department of Defense, Department of the Navy (DoN). The human remains and associated funerary objects were removed from sites near Point Barrow in North Slope Borough, AK.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains was made by DoN officials in consultation with representatives of the Native Village of Barrow Inupiat Traditional Government.

History and Description of the Remains

Between 1951 and 1953, human remains representing, at minimum, 58 individuals were removed from the sites of Birnirk, Nunavah, Nuvuk, and other locations near Point Barrow in North Slope Borough, AK. The human remains were recovered during archeological excavations authorized under an Antiquities Act permit and directed by Wilbert Carter of the Peabody Museum, Harvard University. The collections from these sites were returned to the Peabody Museum following each field season, were transferred for a time to Tufts University, and were returned to the Peabody Museum by Mr. Carter in 1984. The collections were transferred to a Department of the Navy contract facility in Conshohocken, PA, in 2006, and in 2011, the collections were transferred to the Museum of the North, University of Alaska at Fairbanks. No known individuals were identified in the collection. The 124 associated funerary objects include: 33 wooden objects (miscellaneous objects and fragments, dowel pin, dish, dart shaft, game dispatcher, atlatl, wound plug, float, toy arrow, shafts, scoop, effigy pick handle, paddle blade, seal scratcher); 26 ivory objects (paddle tip, needle case, pins, harpoon head and shaft, dart, point, mouthpiece, fossil object, awl, worked object, composite handle, fragment); 23 bone objects (ice pick, spring trap frame, bola weight, worked objects, harpoon head, points, bow brace); 11 antler or antler/stone objects (points, harpoon heads, dart prongs, worked and un-worked antler); 8 other faunal objects (sewn skin fragments, marine shells, bear teeth and fur, baleen whale effigy); 7 stone objects (spall, burin, point, knife, hearthstone, whetstone); and 16 ceramic sherds.

The majority of the human remains and associated funerary objects were excavated from three mounds at the Birnirk site, two mounds at Nunavah site, and one mound at Nuvuk site. The remains and objects from the Birnirk and Nuvuk sites date from 500 to 1200 A.D. The remains and objects from the Nunavah site are undated.

Determinations Made by the U.S. Department of Defense, Department of the Navy

Officials of the U.S. Department of Defense, Department of the Navy have determined that:

• Pursuant to 25 U.S.C. 3001(9), the human remains described in this notice represent the physical remains of 58 individuals of Native American ancestry.

• Pursuant to 25 U.S.C. 3001(3)(A), the 124 objects described in this notice are reasonably believed to have been placed with or near individual human remains at the time of death or later as part of the death rite or ceremony.

• Pursuant to 25 U.S.C. 3001(2), there is a relationship of shared group identity that can be reasonably traced between the Native American human remains and associated funerary objects and the Native Village of Barrow Inupiat Traditional Government.

Additional Requestors and Disposition

Representatives of any Indian tribe not identified in this notice that wish to request transfer of control of these human remains and associated funerary objects should submit a written request with information in support of the request to Dave M. Grant, Department of the Navy, NAVFAC NW., 1101 Tautog Circle, Suite 102, Silverdale, WA 98315-1101, telephone (360) 396-0919, email dave.m.grant@navy.mil, by April 30, 2014. After that date, if no additional requestors have come forward, transfer of control of the human remains and associated funerary objects to the Native Village of Barrow Inupiat Traditional Government may proceed.

The U.S. Department of Defense, Department of the Navy is responsible for notifying the Native Village of Barrow Inupiat Traditional Government that this notice has been published.

Dated: March 10, 2014.
Sherry Hutt,
Manager, National NAGPRA Program.

[FR Doc. 2014-07143 Filed 3-28-14; 8:45 am]

BILLING CODE 4312-50-P